DEPARTMENT OF THE INTERIOR

Office of the Secretary

Working Group on the Re-Engineering (“To-Be”) Process and Fiduciary Trust Improvement Efforts: Call for Nominations

AGENCIES: Bureau of Indian Affairs and Office of the Special Trustee for American Indians, Interior.

ACTION: Notice.

SUMMARY: The Bureau of Indian Affairs (BIA) and the Office of the Special Trustee for American Indians (OST) in the Department of the Interior (Department) are seeking to assemble a working group to provide input and comment on the re-engineering process and fiduciary trust improvement efforts. The department has worked extensively on examining the current fiduciary trust management practices and ways to improve and change how the Department manages the Indian fiduciary trust. The Trust Business Process Modeling Team completed numerous regional workshops allowing for the BIA, OST, Minerals Management Service, Bureau of Land Management, Office of Hearings and Appeals and Tribal entities to document their current fiduciary trust management practices (“As-Is” process). During these workshop discussions, a baseline model for each core trust business process was closely reviewed, analyzed and commented on by Interior and Tribal staff responsible for performing the fiduciary trust functions. The information collected from these discussions will serve as the foundation for re-engineering the management of trust assets (“To-Be” process). This notice serves as a call for nominations of Tribal officials to participate in a working group to discuss the processes and provide input and comments on potential alternatives on how the fiduciary trust process should be improved and administered.

DATES: All nominations must be postmarked within 30 days of the date of publication in the Federal Register. Final selections will be made by and served at the discretion of the Deputy Commissioner for Indian Affairs and the special Trustee for American Indians.

FOR FURTHER INFORMATION CONTACT: You can obtain information and a copy of the Call for Nominations at the following offices: ATTN: Terry Virden, Deputy Commissioner for Indian Affairs, Bureau of Indian Affairs, Room 4160, 1849 C Street, NW., Washington, DC 20240; or ATTN: Donna Erwin, Acting Special Trustee, Office of the Special Trustee for American Indians, Room 5140, 1849 C Street, NW., Washington, DC 20240.

SUPPLEMENTARY INFORMATION: The Electronic Data Systems (EDS) Corporation, in its January 2002 Trust Reform Report, recommended that the Department develop an accurate, current state model to include business processes, internal controls, and associated information technology. The Department has been working extensively on documenting the business processes currently employed in managing the Indian fiduciary trust. Through this process, the Department established a comprehensive understanding of current trust business operations, identified needs and opportunities for improvement, and was able to understand the variances among geographic regions, and their causes.

After completing the “As-Is” phase review, detailed recommendations will be developed for adjusting business processes, where appropriate. The Department will integrate the final “To-Be” model porcesses with universal support and operational functions, and these reengineered business processes will be documented with appropriate policies, procedures, guidelines and handbooks.

The Department, through the BIA and OST, is now establishing a working group that will consist of Tribal officials and Departmental personnel to discuss the re-engineered processes. The working group will provide input and comment on potential alternatives on how the fiduciary trust process could be improved and administered. Participants should be prepared to engage in serious dialogue on all matters relating to the fiduciary trust management process. Nominees should be committed to spending a significant amount of time reviewing existing statutes and programs, discussing the issues within a diverse working group, and exploring creative solutions to the problems discussed. Participants should plan to meet approximately once per month from June through August 2003. Travel and per diem expenses will be provided.

Tribal officials who have been nominated to serve to this working group must complete and submit the following information to the BIA or OST at the address listed above in the section titled FOR FURTHER INFORMATION CONTACT within 30 days of publication of this Notice in the Federal Register:

A. Nominee's Full Name:

B. Business Address:

C. Business Phone:

D. Home Address:

E. Home Phone:

F. Title/Position in Tribe:

G. Qualifications (e.g., education, experience, or whether you are an individual or tribal account holder):

H. Nominated by: Include Nominator's name, address and telephone number(s).

I. Date of nomination:

J. Two or three Letters of Reference:

K. A brief summary or explanation of areas of expertise that you or your nominee will be prepared to discuss with the working group regarding fiduciary trust improvement efforts.

Groups may nominate more than one person. If nominating more than one nominee, please indicate your preferred order of appointment selection.

Dated: April 11, 2003.
Richard V. Fitzgerald,
Trust Policy Manager.
Dated: April 15, 2003.
Aurene M. Martin,
Acting Assistant Secretary—Indian Affairs.

[FR Doc. 03-9839 Filed 4-21-03; 8:45 am]

BILLING CODE 4310-02-M